DEPARTMENT OF VETERANS AFFAIRS

[OMB Control No. 2900-0144]

Agency Information Collection Activity: HUD/VA Addendum to Uniform Residential Loan Application

AGENCY: Veterans Benefits Administration; Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Comments must be submitted on or before January 9, 2020.

ADDRESSES: Submit written comments on the collection of information through www.Regulations.gov, or to Office of Information and Regulatory Affairs, Office of Management and Budget, Attn: VA Desk Officer; 725 17th St. NW, Washington, DC 20503 or sent through electronic mail to oira_submission@omb.eop.gov . Please refer to “OMB Control No. 2900-0144” in any correspondence.

FOR FURTHER INFORMATION CONTACT: Danny S. Green at (202) 421-1354.

SUPPLEMENTARY INFORMATION:

Authority: 44 U.S.C. 3501-21.

Title: HUD/VA Addendum to Uniform Residential Loan Application, VA Form 26-1802a.

OMB Control Number: 2900-0144.

Type of Review: Extension of a currently approved collection.

Abstract: VA Form 26-1802a, Department of Housing and Urban Development (HUD)/Department of Veterans Affairs (VA) Addendum to Uniform Residential Loan Application, serves as the lender's and the veteran's application for home loans authorized by 38 U.S.C.

An agency may not conduct or sponsor, and a person is not required to respond to a collection of information unless it displays a currently valid OMB control number. The Federal Register Notice with a 60-day comment period soliciting comments on this collection of information was published at 84 FR 189 on September 30, 2019, pages 51726 and 51727.

Affected Public: Individuals or Households.

Estimated Annual Burden: 35,000 hours.

Estimated Average Burden per Respondent: 6 minutes.

Frequency of Response: One time.

Estimated Number of Respondents: 350,000.

By direction of the Secretary:
Danny S. Green,
VA Interim Clearance Officer, Office of Quality, Performance and Risk, Department of Veterans Affairs.

[FR Doc. 2019-26483 Filed 12-9-19; 8:45 am]

BILLING CODE 8320-01-P